ENVIRONMENTAL PROTECTION AGENCY

[FRL-6728-5]

Notice of Proposed Prospective Purchaser Agreements Pursuant to the Comprehensive Environmental Response, Compensation and Liability Act of 1980, as Amended by the Superfund Amendments and Reauthorization Act

AGENCY: Environmental Protection Agency.

ACTION: Notice; request for public comment.

SUMMARY: In accordance with the Comprehensive Environmental Response, Compensation, and Liability Act of 1980, as amended by the Superfund Amendments and Reauthorization Act of 1986 (“CERCLA”), 42 U.S.C. 9601-9675, notice is hereby given that two identical proposed prospective purchaser agreements (“Purchaser Agreements”) associated with the Sharon Steel Farrell Works Superfund Site (“Site”) in Farrell, Pennsylvania, have been executed by the Environmental Protection Agency and the Department of Justice. The prospective purchasers, Shenango Valley Manufacturing Company (“SVMC”) and Farrell Slag, Inc. (“Farrell Slag”) competed at a bankruptcy auction sale by the United States Bankruptcy Court for the Western District of Pennsylvania to purchase approximately 200 acres of the Sharon Steel Farrell Works Superfund Site (“Site”). Sharon Steel Corporation presently owns the Site and is liquidating its assets pursuant to Chapter 11 of the Bankruptcy Code. Farrell Slag bid successfully for the property. SVMC was the second highest bidder. Pursuant to the bankruptcy sale, if Farrell Slag is unable to complete the purchase of the property, it will be conveyed to the next highest bidder, SVMC. Since it is acceptable to EPA for either Farrell Slag or SVMC to acquire the property, EPA is proposing Purchaser Agreements for each. However, only the ultimate purchaser of the property will be bound by its respective Purchaser Agreement.

The Purchaser Agreements are now subject to public comment, after which the United States may modify or withdraw its consent if comments received disclose facts or considerations which indicate that the Purchaser Agreements are inappropriate, improper, or inadequate. The Purchaser Agreements will resolve certain potential EPA claims under Sections 106 and 107 of CERCLA, 42 U.S.C. 9606 and 9607. The property subject to the Purchaser Agreements is the portion of the Site south of Ohio Street and west of the Shenango River. The property contains slag Sharon Steel generated during operation of an integrated steel making plant at the Site. EPA will conduct or oversee long term remedial actions at the Site and has initiated the Remedial Investigation/Feasibility Study to identify the hazards posed by contamination at and arising from the Site. Under the terms of each Purchaser Agreement, the purchaser will pay the United States $40,000 for a limited covenant not to sue, cooperate with EPA in the continued implementation of remedial actions at the Site and otherwise comply with the requirements of the Purchaser Agreement.

For thirty (30) days following the date of publication of this notice, the Agency will receive written comments relating to the proposed Purchaser Agreements. The Agency's response to any comments received will be available for public inspection at the U.S. Environmental Protection Agency, Region III, 1650 Arch Street, Philadelphia, PA 19103.

DATES: Comments must be submitted on or before August 2, 2000.

ADDRESSES: Availability: The proposed Purchaser Agreements and additional background information relating to the proposed Purchaser Agreements are available for public inspection at the U.S. Environmental Protection Agency, Region III, 1650 Arch Street, Philadelphia, PA 19103. A copy of the proposed Purchaser Agreements may be obtained from Suzanne Canning, U.S. Environmental Protection Agency, Regional Docket Clerk (3RC00), 1650 Arch Street, Philadelphia, PA 19103. Comments should reference the “Sharon Steel Farrell Works Superfund Site Prospective Purchaser Agreements” and “EPA Docket No. CERCLA-PPA-2000-01 and CERCLA-PPA-2000-02,” and should be forwarded to Suzanne Canning at the above address.

FOR FURTHER INFORMATION CONTACT: Ami Y. Antoine (3RC43), Sr. Assistant Regional Counsel, U.S. Environmental Protection Agency, 1650 Arch Street, Philadelphia, PA 19103, Phone: (215) 814-2497.

Dated: June 16, 2000.
Bradley M. Campbell,
Regional Administrator, U.S. Environmental Protection Agency, Region III.

[FR Doc. 00-16762 Filed 6-30-00; 8:45 am]

BILLING CODE 6560-50-U